DEPARTMENT OF ENERGY

Federal Energy Regulatory Commission

Combined Notice of Filings #1

Take notice that the Commission received the following electric rate filings:

Docket Numbers: ER17-1775-001.

Applicants: Arizona Public Service Company.

Description: Tariff Amendment: Revision—Rate Schedule No. 265, Amendment No. 1 to be effective 8/8/2017.

Filed Date: 7/26/17.

Accession Number: 20170726-5153.

Comments Due: 5 p.m. ET 8/16/17.

Docket Numbers: ER17-2151-000.

Applicants: New York Independent System Operator, Inc., Long Island Lighting Company.

Description: § 205(d) Rate Filing: Section 205 SA No. 2344, among NYISO, LIPA and Shoreham to be effective 7/11/2017.

Filed Date: 7/26/17.

Accession Number: 20170726-5104.

Comments Due: 5 p.m. ET 8/16/17.

Docket Numbers: ER17-2152-000.

Applicants: Cottonwood Wind Project, LLC.

Description: Baseline eTariff Filing: Cottonwood Wind Project, LLC Application for Market-Based Rates to be effective 10/1/2017.

Filed Date: 7/26/17.

Accession Number: 20170726-5154.

Comments Due: 5 p.m. ET 8/16/17.

Docket Numbers: ER17-2154-000.

Applicants: Pacific Gas and Electric Company.

Description: § 205(d) Rate Filing: Transmission Owner Rate Case 2018 (TO19) to be effective 10/1/2017.

Filed Date: 7/27/17.

Accession Number: 20170727-5008.

Comments Due: 5 p.m. ET 8/17/17.

Docket Numbers: ER17-2155-000.

Applicants: Otter Tail Power Company.

Description: Notice of Termination of the Baker Electric Cooperative Agreement (Rate Schedule No. 149) of Otter Tail Power Company.

Filed Date: 7/26/17.

Accession Number: 20170726-5177.

Comments Due: 5 p.m. ET 8/16/17.

Docket Numbers: ER17-2156-000.

Applicants: NorthWestern Corporation.

Description: § 205(d) Rate Filing: SA 822—Utilities Agreement with Montana DOT re Milk River-North to be effective 9/26/2017.

Filed Date: 7/27/17.

Accession Number: 20170727-5033.

Comments Due: 5 p.m. ET 8/17/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2017.
Nathaniel J. Davis, Sr.,
Deputy Secretary.

[FR Doc. 2017-16224 Filed 8-1-17; 8:45 am]

BILLING CODE 6717-01-P